DEPARTMENT OF ENERGY

Federal Energy Regulatory Commission

[Project No. 2000-010]

New York Power Authority; Notice of Meeting To Discuss Settlement for Relicensing of the St. Lawrence-FDR Power Project and Notice Extending Deadline for Filing Requests for Additional Studies and Preliminary Comments, Recommendations, Terms and Conditions, and Prescriptions

September 1, 2000.

The establishment of the Cooperative Consultation Process (CCP) Team and Scoping Process for relicensing of the St. Lawrence-FDR Power Project (FERC No. 2000-010) (Project) was identified in the Notice of Memorandum of Understanding, Formation of the Cooperative Consultation Process Team, and Initiation of Scoping Process Associated with Relicensing the St. Lawrence-FDR Power Project issued May 2, 1996, and found in the Federal Register dated May 8, 1996, Volume 61, No. 90, on page 20813. The project is located on the St. Lawrence River, St. Lawrence County, New York.

The CCP Team will meet on September 14, 2000 to continue negotiations on ecological and local issues. The meeting will be conducted at the New York Power Authority's (NYPA) Robert Moses Powerhouse, at 10 a.m., located in Massena, New York.

If you would like more information about the CCP Team and the relicensing process, please contact any one of the following individuals:

Mr. Thomas R. Tatham, New York Power Authority, (212) 468-6747, (212) 468-6141 (fax), E-mail: Tatham.T@NYPA.Gov

Mr. Bill Little, Esq., New York State Department of Environmental Conservation, (518) 457-0986, (518) 457-3978 (fax), E-mail: WGLittle@GW.DEC.State.NY.US

Dr. Jennifer Hill, Federal Energy Regulatory Commission, (202) 219-2797 (Jennifer), (202) 219-2152 (fax), E-mail: Jennifer.Hill@FERC.FED.US

Further information about NYPA and the St. Lawrence-FDR Power Project can be obtained through the internet at http://www.stl.nypa.gov/index.html. Information about the Federal Energy Regulatory Commission can be obtained at http://www.ferc.fed.us.

On August 11, 2000, the Commission issued a notice of Scoping Document 2 and request for additional study requests and soliciting preliminary comments, recommendations, terms and conditions, and prescriptions for the St. Lawrence-FDR Power Project. The notice set September 8, 2000, as the deadline for filing comments. On August 18, 2000, the United States Department of the Interior filed a request to extend the deadline to September 29, 2000.

Pursuant to Rule 2008 of the Commission's Rules of Practice and Procedure,¹ the deadline for the collaborative team stakeholders to file requests for additional studies and preliminary comments, recommendations, terms and conditions, and prescriptions is extended to September 29, 2000.

¹ 18 CFR 385.2008

All comments should be sent to: Mr. John J. Suloway, New York Power Authority, 123 Main Street, White Plains, New York 10601 with one copy filed with the Commission at: David P. Boergers, Secretary, Federal Energy Regulatory Commission, 888 First Street, NE., Washington, DC 20426.

The Commission's contact for the Project is Dr. Jennifer Hill, see E-mail address and phone number listed above.

Linwood A. Watson, Jr.,
Acting Secretary.

[FR Doc. 00-23062 Filed 9-7-00; 8:45 am]

BILLING CODE 6717-01-M